DEPARTMENT OF TRANSPORTATION

Federal Aviation Administration

14 CFR Part 39

[Docket No. FAA-2009-0114; Directorate Identifier 2009-NE-03-AD; Amendment 39-15910; AD 2009-10-14]

RIN 2120-AA64

Airworthiness Directives; Hartzell Propeller Inc. Steel Hub Turbine Propellers

AGENCY: Federal Aviation Administration (FAA), DOT.

ACTION: Final rule; request for comments.

SUMMARY: The FAA is adopting a new airworthiness directive (AD) for Hartzell Propeller Inc. steel hub turbine propellers, with any counterweight slug attachment bolts, part number (P/N) B-3386-14H, LFC manufacturing lot 224, installed. This AD requires identifying and removing all counterweight slug attachment bolts, P/N B-3386-14H, LFC manufacturing lot 224, from service and installing serviceable bolts. This AD results from two reports of failure of the bolts that attach the propeller blade counterweight slug, and separation of the counterweight slug which led to propeller vibration and damage to the propeller spinner. We are issuing this AD to prevent separation of the propeller blade counterweight slug, which could lead to injury and damage to the airplane.

DATES: This AD becomes effective June 4, 2009. The Director of the Federal Register approved the incorporation by reference of certain publications listed in the regulations as of June 4, 2009.

We must receive any comments on this AD by July 20, 2009.

ADDRESSES: Use one of the following addresses to comment on this AD:

• Federal eRulemaking Portal: Go to http://www.regulations.gov and follow the instructions for sending your comments electronically.

• Mail: U.S. Docket Management Facility, Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Tim Smyth, Senior Aerospace Engineer, Chicago Aircraft Certification Office, FAA, Small Airplane Directorate, 2300 East Devon Avenue, Des Plaines, IL 60018-4696; e-mail: timothy.smyth@faa.gov; telephone (847) 294-8110; fax (847) 294-7132.

SUPPLEMENTARY INFORMATION: In October 2008, we became aware of two reports of failure of the bolts that attach the propeller blade counterweight slug, and separation of the counterweight slug which led to propeller vibration and damage to the propeller spinner. Investigation by Hartzell Propeller Inc. revealed that the bolts failed due to a bolt manufacturing defect. Hartzell Propeller Inc. determined that the bolts in LFC manufacturing lot 224, are suspect for having this defect. This condition, if not corrected, could result in separation of the propeller blade counterweight slug, which could lead to injury and damage to the airplane.

Relevant Service Information

We have reviewed and approved the technical contents of Hartzell Propeller Inc. Alert Service Bulletin (ASB) No. HC-ASB-61-313, Revision 2, dated March 27, 2009. That ASB lists the affected Hartzell Propeller Inc. steel hub turbine propeller models and describes procedures for identifying and removing all counterweight slug attachment bolts, P/N B-3386-14H, LFC manufacturing lot 224, from service, and installing serviceable bolts.

FAA's Determination and Requirements of This AD

The unsafe condition described previously is likely to exist or develop on other Hartzell Propeller Inc. steel hub turbine propellers of the same type design. For that reason, we are issuing this AD to prevent separation of the propeller blade counterweight slug, which could lead to injury and damage to the airplane. This AD requires identifying and removing all counterweight slug attachment bolts, P/N B-3386-14H, LFC manufacturing lot 224, from service, within the next 50 flight hours after the effective date of the AD, and installing serviceable bolts. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2009-0114; Directorate Identifier 2009-NE-03-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-10-14 Hartzell Propeller Inc.: Amendment 39-15910. Docket No. FAA-2009-0114; Directorate Identifier 2009-NE-03-AD.

Effective Date

(a) This airworthiness directive (AD) becomes effective June 4, 2009.

Affected ADs

(b) None.

Applicability

(c) This AD applies to the Hartzell Propeller Inc. steel hub turbine propellers listed in Table 1 of this AD, with any counterweight slug attachment bolts, part number (P/N) B-3386-14H, LFC manufacturing lot 224, installed. These propellers are installed on, but not limited to, the airplanes listed in Table 1 of this AD.

Table 1—Propeller Models Applicability
Propeller model | Airplane manufacturer | Airplane model
HC-B3TN-5K | AERO COMMANDER | 680T, 680V, 681.
HC-B3TN-5DL, -5FL, -5NL | AERO COMMANDER | 690(A, B, C), 695A.
HC-A3MVF-7B | AEROSPACE TECHNOLOGIES | N22B, N24A, N22S, N22C.
HC-A3VF-7, -7B | AEROSPACE TECHNOLOGIES | N22B, N24A, N22S, N22C.
HC-B5MP-3A, -3C | AIR TRACTOR | AT-502A.
HC-B5MP-3C | AIR TRACTOR | AT-503, 602.
HC-B5MA-3D(T) | AIR TRACTOR | AT-802.
HC-B5MP-3F | AIR TRACTOR | AT-802.
HC-B5MA-5A | ANTONOV | AN-38.
HC-B3TN-5V | AYRES | S-2R.
HC-B4TN-5NL, -5PL | AYRES | S-2R(-1340), -G(5, 6, 10), -R3S, -R1820, -T(6, 11, 15, 34, 45, 65).
HC-B5MP-3C | AYRES | S-2R(HG)-T65.
HC-B3TN-3AE | AYRES | S-2R-T( ).
HC-B3TN-5K | BAE (JETSTREAM) | 137.
HC-B4MP-3A | BEECH | 1900C.
HC-B4MP-3B | BEECH | 300, 300LW.
HC-B3TF-7A | BEECH | A36, A36TC.
HC-B4MP-3C | BEECH | B300, B300C.
HC-B4MN-5AL | CASA | C-212-CC, -CF.
HC-B3TF-7A | CESSNA | 206.
HC-B3TF-7 | CESSNA | 402.
HC-B3MN-3 | CESSNA | 208, 208A, 208B.
HC-B3TN-3AEY, -3AF | CESSNA | 208, 208A, 208B.
HC-B3TF-7A | CESSNA | P210N.
HC-B3TN-3AEY | DE HAVILLAND CANADA | DHC-3.
HC-B4TN-5NL | DE HAVILLAND CANADA | DHC-3.
HC-B5MA-3M | DE HAVILLAND CANADA | DHC-4.
HC-B4TN-5ML | DORNIER | DO228-100, -101, -200, -201, -202, -212.
HC-B4TN-5L | DORNIER | DO228-200, -201, -202, -212.
HC-B5MA-3(J, M, C) | DOUGLAS | DC-3C.
HC-B5MA-2 | EMBRAER | EMB-314.
HC-B4TN-5EL, -5HL, -5KL | FAIRCHILD AIRCRAFT | SA-226T(B).
HC-B3TF-7, -7A | FLUG & FAHRZEUGWERKE AG | AS202/32TP.
HC-B3TF-7A | FUJI | KM-2D (T-5).
HC-B5MP-5 | GRUMMAN | S-2.
HC-B5MA-5H | GRUMMAN | S-2F3AT.
HC-3BTF-7A | MAULE | M-7-420, MX(T)-7-420.
HC-B4TN-5DL, -5GL, -5JL | MITSUBISHI | MU-2B-25A, -26A, -30, -35A, -36A, -40 (MU-2P), -60 (MU-2N).
HC-B5MP-3(A) | NORD | 262 FRAKES.
HC-B5MP-3C | NORMAN AEROPLANE | NAC 6-65.
HC-B5MP-3D | POLISH AVIATION (MIELEC) | M-28, -28B.
HC-B5MP-3G | POLISH AVIATION (MIELEC) | M-28B.
HC-B3TN-5U | PZL MIELEC | M18.
HC-B4TN-5NL | PZL MIELEC | M18.
HC-B5MP-5BL | PZL MIELEC | M18.
HC-B5MP-3C | PZL MIELEC | M18, M18A, M18B.
HC-B4MN-5B | ROCKWELL | OV-10 (LEFT SIDE).
HC-B4MN-5BL | ROCKWELL | OV-10 (RIGHT SIDE).
HC-B5MP-3A | SHORT BROTHERS | SD3-30.
HC-B5MP-3C | SHORT BROTHERS | SD3-60-200, SD3-SHERPA-200.
HC-B3TF-7A | SIAI MARCHETTI (AERMACCHI) | F.260C, D.
HC-B3TF-7A | SIAI MARCHETTI (AERMACCHI) | SM-1019.
HC-B3TF-7A | SIAI MARCHETTI (VULCANAIR) | SF600 CANGURO.
HC-B5MP-3(F) | THRUSH AIRCRAFT | S-2R-T660.
HC-B3TN-5FL, -5NL | TWIN COMMANDER | 690A, 690B, 690C.
HC-B3TF-7A | VALMET | L-90TP.
HC-B3TF-7A | VULCANAIR (PARTENAVIA) | AP68TP-300, -600.

Unsafe Condition

(d) This AD results from two reports of failure of the bolts that attach the propeller blade counterweight slug, and separation of the counterweight slug which led to propeller vibration and damage to the propeller spinner. Investigation by Hartzell Propeller Inc. revealed that the bolts failed due to a bolt manufacturing defect. We are issuing this AD to prevent separation of the propeller blade counterweight slug, which could lead to injury and damage to the airplane.

Compliance

(e) You are responsible for having the actions required by this AD performed within 50 flight hours after the effective date of this AD, unless the actions have already been done.

Identification and Removal of All Propeller Blade Counterweight Slug Bolts, P/N B-3386-14H, LFC Manufacturing Lot 224, From Service, and Installation of Serviceable Bolts

(f) Identify and remove all propeller blade counterweight slug bolts, P/N B-3386-14H, LFC manufacturing lot 224, from service, and install serviceable bolts.

(g) Use paragraphs 3.A.(1) through 3.A.(4)(b)5 of the Accomplishment Instructions of Hartzell Propeller Inc. ASB No. HC-ASB-61-313, Revision 2, dated March 27, 2009, to do the identification, removals from service, and installations.

Definition

(h) For the purpose of this AD, a serviceable propeller blade counterweight slug bolt is a P/N B-3386-14H bolt with an LFC manufacturing lot other than lot 224.

Alternative Methods of Compliance

(i) The Manager, Chicago Aircraft Certification Office, has the authority to approve alternative methods of compliance for this AD if requested using the procedures found in 14 CFR 39.19.

Related Information

(j) Contact Tim Smyth, Senior Aerospace Engineer, Chicago Aircraft Certification Office, FAA, Small Airplane Directorate, 2300 East Devon Avenue, Des Plaines, IL 60018-4696; e-mail: timothy.smyth@faa.gov; telephone (847) 294-8110; fax (847) 294-7132, for more information about this AD.

Material Incorporated by Reference

(k) You must use Hartzell Propeller Inc. ASB No. HC-ASB-61-313, Revision 2, dated March 27, 2009, to perform the actions required by this AD. The Director of the Federal Register approved the incorporation by reference of this service bulletin in accordance with 5 U.S.C. 552(a) and 1 CFR part 51. Contact Hartzell Propeller Inc. Technical Publications Department, One Propeller Place, Piqua, OH 45356; telephone (937) 778-4200; fax (937) 778-4391, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts, on May 8, 2009.
Peter A. White,
Assistant Manager, Engine and Propeller Directorate, Aircraft Certification Service.

[FR Doc. E9-11518 Filed 5-19-09; 8:45 am]

BILLING CODE 4910-13-P